DEPARTMENT OF ENERGY

Federal Energy Regulatory Commission

Combined Notice of Filings #2

Take notice that the Commission received the following electric corporate filings:

Docket Numbers: EC12-66-000.

Applicants: Turner Energy LLC, MoArk, LLC, DeCoster Enterprises, LLC.

Description: Joint Application for Disposition of Jurisdictional Facilities and Privileged Treatment of Exhibit I.

Filed Date: 2/7/12.

Accession Number: 20120207-5161.

Comments Due: 5 p.m. ET 2/28/12.

Docket Numbers: EC12-67-000.

Applicants: Entergy Nuclear Generation Company, Entergy Nuclear Palisades, LLC, Entergy Nuclear Power Marketing, LLC, Entergy Nuclear Vermont Yankee, LLC, Entergy Nuclear Fitzpatrick, LLC, Entergy Nuclear Indian Point 2, LLC, Entergy Nuclear Indian Point 3, LLC, Llano Estacado Wind, LLC, Entergy Power, LLC, Northern Iowa Windpower, LLC, EAM Nelson Holding, LLC,EWO Marketing, LLC, Entergy Rhode Island State Energy, L.P.

Description: Application of EAM Nelson Holding, LLC, et al., for Section 203 Authorization.

Filed Date: 2/8/12.

Accession Number: 20120208-5043.

Comments Due: 5 p.m. ET 2/29/12.

Take notice that the Commission received the following exempt wholesale generator filings:

Docket Numbers: EG12-31-000.

Applicants: Quantum Choctaw Power, LLC.

Description: Quantum Choctaw Power Notice of Self-certification of Exempt Wholesale Generator Status.

Filed Date: 2/8/12.

Accession Number: 20120208-5011.

Comments Due: 5 p.m. ET 2/29/12.

Take notice that the Commission received the following electric rate filings:

Docket Numbers: ER12-1022-000.

Applicants: Pacific Gas and Electric Company.

Description: Request for Tariff Waiver of Pacific Gas and Electric Company.

Filed Date: 2/7/12.

Accession Number: 20120207-5162.

Comments Due: 5 p.m. ET 2/28/12.

Docket Numbers: ER12-1023-000.

Applicants: PJM Interconnection, L.L.C.

Description: PJM Original Service Agreement No. 3187; Queue No. W3-134 to be effective 1/16/2012.

Filed Date: 2/8/12.

Accession Number: 20120208-5049.

Comments Due: 5 p.m. ET 2/29/12.

Docket Numbers: ER12-1024-000.

Applicants: Carolina Power & Light Company.

Description: Cancellation of Service Agreement No. 315 under Carolina Power and Light OATT to be effective 1/20/2012.

Filed Date: 2/8/12.

Accession Number: 20120208-5062.

Comments Due: 5 p.m. ET 2/29/12.

The filings are accessible in the Commission's eLibrary system by clicking on the links or querying the docket number.

Any person desiring to intervene or protest in any of the above proceedings must file in accordance with Rules 211 and 214 of the Commission's Regulations (18 CFR 385.211 and 385.214) on or before 5 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2012.
Nathaniel J. Davis, Sr.,
Deputy Secretary.

[FR Doc. 2012-3596 Filed 2-15-12; 8:45 am]

BILLING CODE 6717-01-P